DEPARTMENT OF COMMERCE

Foreign-Trade Zones Board

[B-79-2021]

Foreign-Trade Zone (FTZ) 138—Columbus, Ohio; Authorization of Limited Production Activity; Fluvitex USA, Inc.; (Quilts, Comforters and Cushions); Groveport, Ohio

On November 23, 2021, Fluvitex USA, Inc., submitted a notification of proposed production activity to the FTZ Board for its facility within FTZ 138, in Groveport, Ohio.

The notification was processed in accordance with the regulations of the FTZ Board (15 CFR part 400), including notice in the Federal Register inviting public comment (86 FR 67903—67904, November 30, 2021). On March 23, 2022, the applicant was notified of the FTZ Board's decision that further review of part of the proposed activity is warranted. The FTZ Board authorized the production activity described in the notification on a limited basis, subject to the FTZ Act and the Board's regulations, including Section 400.14, and further subject to a restriction requiring all foreign-status materials be admitted to the zone in privileged foreign status (19 CFR 146.41) with the exception of foreign-status polybags.

Dated: March 23, 2022.
Andrew McGilvray,
Executive Secretary.

[FR Doc. 2022-06405 Filed 3-25-22; 8:45 am]

BILLING CODE 3510-DS-P